DEPARTMENT OF LABOR

Employment And Training Administration

[TA-W-51,657 and TA-W-51,657A]

Lucent Technologies, North Andover, MA; Including Employees Of Lucent Technologies North Andover, MA, Located In Westford, MA; Amended Certification Regarding Eligibility to Apply for Worker Adjustment Assistance

In accordance with Section 223 of the Trade Act of 1974 (19 U.S.C. 2273) the Department of Labor issued a Certification of Eligibility to Apply for Worker Adjustment Assistance on June 30, 2003, applicable to workers of Lucent Technologies, North Andover, Massachusetts. The notice was published in the Federal Register on July 22, 2003 (68 FR 43373).

At the request of the State agency, the Department reviewed the certification for workers of the subject firm. The workers are engaged in the production of printed circuit boards.

New information shows that in early 2004, Lucent Technologies located in North Andover, Massachusetts, relocated several organization units to Westford, Massachusetts.

Accordingly, the Department is amending this certification to include employees of the North Andover, Massachusetts location of Lucent Technologies, located in Westford, Massachusetts.

The intent of the Department's certification is to include all workers employed at Lucent Technologies, North Andover, Massachusetts who were adversely affected by increased imports.

The amended notice applicable to TA-W-51,657 is hereby issued as follows:

“All workers of Lucent Technologies, North Andover, Massachusetts (TA-W-51,657) including employees of Lucent Technologies, North Andover, Massachusetts located in Westford, Massachusetts (TA-W-51,657A), who became totally or partially separated from employment on or after May 1, 2002, through June 30, 2005, are eligible to apply for adjustment assistance under Section 223 of the Trade Act of 1974.”

Signed at Washington, DC this 3rd day of December 2004.
Richard Church,
Certifying Officer, Division of Trade Adjustment Assistance.

[FR Doc. E4-3735 Filed 12-17-04; 8:45 am]

BILLING CODE 4510-30-P